DEPARTMENT OF TRANSPORTATION

Federal Motor Carrier Safety Administration

49 CFR Parts 350, 365, 385, 386, 387, and 395

[Docket No. FMCSA-2015-0001]

RIN 2126-AB11

Carrier Safety Fitness Determination

AGENCY: Federal Motor Carrier Safety Administration (FMCSA), DOT.

ACTION: Notice; extension of comment period and technical correction.

SUMMARY: FMCSA extends the public comment period for the Agency's notice of proposed rulemaking (NPRM) that published on January 21, 2016. This NPRM concerns the proposals to the current methodology for issuance of safety fitness determinations (SFD) for motor carriers. The Agency extends the deadline for the submission of initial comments to May 23, 2016. Reply comments will be due on or before June 23, 2016. In addition, FMCSA corrects the title and date of an American Transportation Research Institute (ATRI) study report that the NPRM cited about the Agency's Safety Measurement System (SMS).

DATES: FMCSA is extending the initial comment period for the proposed rulemaking published on January 21, 2016 (81 FR 3562). You must submit comments by May 23, 2016, and reply comments on or before June 23, 2016.

ADDRESSES: You may submit comments (initial and reply) identified by the docket number FMCSA-2015-0001 using any of the following methods:

• Web site: http://www.regulations.gov. Follow the instructions for submitting comments on the Federal electronic docket site.

• Fax: 1-202-493-2251.

• Mail: Docket Services, U.S. Department of Transportation, Room W12-140, 1200 New Jersey Avenue SE., Washington, DC 20590-0001.

• Hand Delivery: Ground Floor, Room W12-140, DOT Building, 1200 New Jersey Avenue, SE., Washington, DC, between 9 a.m. and 5 p.m. Monday through Friday, except Federal holidays.

To avoid duplication, please use only one of these four methods. See the “Public Participation and Request for Comments” portion of the SUPPLEMENTARY INFORMATION section below for instructions on submitting comments.

FOR FURTHER INFORMATION CONTACT: Mr. David Yessen, (609) 275-2606, David.Yessen@dot.gov. FMCSA office hours are from 7:30 a.m. to 4 p.m., Monday through Friday, except Federal holidays. If you have questions on viewing or submitting material to the docket, call Docket Services, telephone 202-366-9826.

SUPPLEMENTARY INFORMATION:

I. Public Participation and Request for Comments

FMCSA encourages you to participate in this rulemaking by submitting comments, reply comments, and related materials. All comments received will be posted without change to http://www.regulations.gov and will include any personal information you provide.

A. Submitting Comments

Initial comments may address any issue raised in the NPRM and the background documents in the docket (e.g., Regulatory Evaluation, studies). Initial comments will be made available promptly online on http://www.regulations.gov and for public inspection in room W12-140, DOT Building, 1200 New Jersey Avenue SE., Washington, DC, between 9 a.m. and 5 p.m., Monday through Friday, except Federal holidays. In order to allow sufficient opportunity for interested parties to prepare and submit any reply comments, late-filed initial comments will not be considered. Reply comments must address only matters raised in initial comments and must not be used to present new arguments, contentions, or factual material that is not responsive to the initial comments.

If you submit a comment or a reply comment, please include the docket number for this rulemaking (FMCSA-2015-0001), indicate the specific section of this document to which each comment or reply comment applies, and provide a reason for each suggestion or recommendation. You may submit your comments, reply comments and material online or by fax, mail, or hand delivery, but please use only one of these means. FMCSA recommends that you include your name and a mailing address, an email address, or a phone number in the body of your document so the Agency can contact you if it has questions regarding your submission.

To submit your comment or reply comment online, go to http://www.regulations.gov and insert “FMCSA-2015-0001” in the “Search” box, and then click the “Search” button to the right of the white box. Click on the top “Comment Now” box which appears next to the document. Fill in your contact information, as desired and your comment or reply comment, uploading documents if appropriate. If you submit your comments by mail or hand delivery, submit them in an unbound format, no larger than 8½ by 11 inches, suitable for copying and electronic filing. If you submit comments or reply comments by mail and would like to know that they reached the facility, please enclose a stamped, self-addressed postcard or envelope.

FMCSA will consider all comments, reply comments and material received during the comment period and may change this proposed rule based on your comments.

B. Viewing Comments and Documents

To view comments, as well as documents mentioned in this preamble as being available in the docket, go to http://www.regulations.gov and insert “FMCSA-2015-0001” in the “Search” box and then click on “Search.” Click on the “Open Docket Folder” link and all the information for the document, and the list of comments will appear with a link to each one. Click on the comment you would like to read. If you do not have access to the Internet, you may view the docket online by visiting the Docket Services in Room W12-140 on the ground floor of the Department of Transportation West Building, 1200 New Jersey Avenue SE., Washington, DC 20590, between 9 a.m. and 5 p.m., Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

On January 21, 2016 (81 FR 3562), FMCSA published an NPRM to amend the current methodology for issuance of SFDs for motor carriers. From February 3 to 5, 2016, the American Moving and Storage Association (AMSA), Transportation Intermediaries Association (TIA), and the Transportation & Logistics Council, Inc. (TL Council) petitioned the Agency for a 60-day extension of the comment period. On February 16, 2016, the Owner Operator Independent Drivers Association (OOIDA) petitioned the Agency for a 90-day extension of the comment period. A copy of the AMSA, TIA, TL Council, and OOIDA petitions are included in the docket referenced at the beginning of this document. After reviewing the requests, FMCSA has decided to grant a 60-day extension (to May 23, 2016, for initial comments and to June 23, 2016 for reply comments) to provide all interested parties adequate time to submit comments on proposals in this rulemaking.

In addition, Rebecca M. Brewster, President and Chief Operating Officer of the American Transportation Research Institute (ATRI), informed FMCSA that the NPRM incorrectly cited an ATRI study (81 FR 3562, at 3567, third column) on the Agency's Behavioral Analysis and Safety Improvement Categories (BASICs) and their relationship to crash risk. The study erroneously cited by FMCSA was a qualitative study of motor carrier, driver, law enforcement and shipper survey data. The ATRI study on the BASICs was released in October 2012 and is titled “Compliance, Safety, Accountability: Analyzing the Relationship of Scores to Crash Risk.” It involved an analysis of carriers assessed by BASICs. The results confirmed that FMCSA's Safety Measurement System (SMS) is better at targeting carriers and identifying safety problems than the current SafeStat, the Agency's previous intervention prioritization system. In addition, the ATRI study indicated that the number of “alerts” a carrier has is the best indicator of future crashes.

FMCSA has included the correct report in the docket for the public's consideration of the Carrier Safety Fitness Determination NPRM.

Issued on: March 1, 2016.
Larry W. Minor,
Associate Administrator for Policy.

[FR Doc. 2016-05151 Filed 3-7-16; 8:45 am]

BILLING CODE 4910-EX-P